DEPARTMENT OF COMMERCE

International Trade Administration

[A-533-810]

Stainless Steel Bar From India: Initiation of Antidumping New Shipper Review

AGENCY: Import Administration, International Trade Administration, Department of Commerce.

ACTION: Notice of initiation of antidumping new shipper review.

SUMMARY: The Department of Commerce has received a request to conduct a new shipper review of the antidumping duty order on stainless steel bar from India. In accordance with section 751(a)(2)(B) of the Tariff Act of 1930, as amended, and 19 CFR 351.214, we are initiating this new shipper review.

EFFECTIVE DATE: September 11, 2000.

FOR FURTHER INFORMATION CONTACT: Blanche Ziv or Ryan Langan, Import Administration, International Trade Administration, U.S. Department of Commerce, 14th Street and Constitution Avenue, NW., Washington, DC 20230; telephone (202) 482-4207 or (202) 482-1279, respectively.

Applicable Statute and Regulations

Unless otherwise indicated, all citations to the Tariff Act of 1930, as amended (“the Act”), are references to the provisions effective January 1, 1995, the effective date of the amendments made to the Act by the Uruguay Round Agreements Act. In addition, all references to the Department of Commerce's (“the Department's”) regulations are to 19 CFR part 351 (April 1999).

SUPPLEMENTARY INFORMATION:

Background

On August 3, 2000, the Department received a request from Snowdrop Trading PVT. LTD. (“Snowdrop”), pursuant to section 751(a)(2)(B) of the Act, and in accordance with 19 CFR 351.214(b), to conduct a new shipper review of the antidumping duty order on stainless steel bar from India. This order has an August semi-annual anniversary month.

Initiation of Review

Pursuant to 19 CFR 351.214(b), in its request of August 3, 2000, Snowdrop certified that it did not export subject merchandise to the United States during the period of investigation (“POI”) (July 1, 1993 through December 31, 1993) and that it is not now and never has been affiliated with any exporter or producer who exported the subject merchandise to the United States during the period of review (“ POR”). Snowdrop submitted documentation establishing: (i) The date on which its stainless steel bar was first entered or withdrawn from warehouse, for consumption, or if the exporter or producer could not establish the date of first entry, the date on which it first shipped the subject merchandise for export in the United States; (ii) the volume of that and subsequent shipments; and (iii) the date of the first sale to an unaffiliated customer in the United States.

In accordance with section 751(a)(2)(B) of the Act and 19 CFR 351.214, we are initiating a new shipper review of the antidumping duty order on stainless steel bar from India. In accordance with 19 CFR 351.214(h)(i), we intend to issue the preliminary results of this review not later than 180 days from the date of publication of this notice. All provisions of 19 CFR 351.214 will apply to Snowdrop throughout the duration of this new shipper review. The standard period of review in a new shipper review initiated in the month immediately following the semiannual anniversary month is the six-month period immediately preceding the semiannual anniversary month.

Antidumping duty proceeding | Period to be reviewed
India: Stainless Steel Bar, A-533-810: Snowdrop Trading PVT. LTD. | 02/01/00—7/31/00

Concurrent with publication of this notice, and in accordance with 19 CFR 351.214(e), we will instruct the Customs Service to allow, at the option of the importer, the posting of a bond or security in lieu of a cash deposit for each entry of the merchandise exported by the company listed above, until the completion of the review.

Interested parties must submit applications for disclosure under administrative protective orders in accordance with 19 CFR 351.305 and 351.306.

This initiation notice is in accordance with section 751(a) of the Act (19 U.S.C. 1675(a)) and 19 CFR 351.214.

Dated: September 1, 2000.
Richard W. Moreland,
Deputy Assistant Secretary for Import Administration.

[FR Doc. 00-23254 Filed 9-8-00; 8:45 am]

BILLING CODE 3510-DS-P